NATIONAL AERONAUTICS AND SPACE ADMINISTRATION

[Notice (03-070)]

NASA Space Science Advisory Committee, Structure and Evolution of the Universe Subcommittee; Meeting

AGENCY: National Aeronautics and Space Administration.

ACTION: Notice of meeting.

SUMMARY: The National Aeronautics and Space Administration announces a meeting of the NASA Space Science Advisory Committee (SScAC), Structure and Evolution of the Universe Subcommittee (SEUS).

DATES: Tuesday, July 1, 2003, 8:30 a.m. to 5:30 p.m.; and Wednesday, July 2, 2003, 8 a.m. to 4 p.m..

ADDRESSES: National Aeronautics and Space Administration, Rooms 3H46 and 9H40, 300 E Street, SW., Washington, DC 20546.

FOR FURTHER INFORMATION CONTACT: Dr. Paul Hertz, Code SZ, National Aeronautics and Space Administration, Washington, DC 20546, 202/358-0986.

SUPPLEMENTARY INFORMATION: The meeting will be open to the public up to the seating capacity of the room. The agenda for the meeting is as follows:

—Astronomy and Physics Programs

—Beyond Einstein Initiative

—Interagency Coordination

—Explorer Program

—Science Performance Metrics

—Recent Mission Reviews

Attendees will be requested to sign a register and to comply with NASA security requirements, including the presentation of a valid picture ID, before receiving an access badge. Foreign nationals attending this meeting will be required to provide the following information: full name; gender; date/place of birth; citizenship; visa/greencard information (number, type, expiration date); employer/affiliation information (name of institution, address, country, phone); title/position of attendee. To expedite admittance, attendees can provide identifying information in advance by contacting Dr. Paul Hertz via e-mail at paul.hertz@nasa.gov or by telephone at 202/358-0986. Attendees will be escorted at all times.

It is imperative that the meeting be held on these dates to accommodate the scheduling priorities of the key participants. Visitors will be requested to sign a visitor's register.

June W. Edwards,
Advisory Committee Management Officer, National Aeronautics and Space Administration.

[FR Doc. 03-15186 Filed 6-16-03; 8:45 am]

BILLING CODE 7510-01-P